DEPARTMENT OF COMMERCE

National Oceanic and Atmospheric Administration

[I.D. 021306D]

Fisheries Off West Coast States and in the Western Pacific; Western Pacific Crustacean Fisheries; 2006 Harvest Guideline

AGENCY: National Marine Fisheries Service (NMFS), National Oceanic and Atmospheric Administration (NOAA), Commerce.

ACTION: Notification of harvest guideline for crustaceans.

SUMMARY: NMFS announces that the annual harvest guideline for the commercial lobster fishery in the Northwestern Hawaiian Islands (NWHI) for calendar year 2006 is established at zero lobsters.

FOR FURTHER INFORMATION CONTACT: Robert Harman, NMFS Pacific Islands Regional Office, at (808) 944-2207.

SUPPLEMENTARY INFORMATION: Under the regulations implementing the Fishery Management Plan for Crustacean Fisheries of the Western Pacific Region (Crustaceans FMP) at 50 CFR 660.50(b)(2), every year NMFS is required to publish a harvest guideline for lobster Permit Area 1, which encompasses the Exclusive Economic Zone around the NWHI.

The fishery has been closed since 2000 for several reasons, including: (a) as a precautionary measure to prevent overfishing of the lobster resources while NMFS conducts biological research and assessment on the lobster stocks; (b) to comply with an order of the U.S. District Court for the District of Hawaii to keep the NWHI commercial lobster fishery closed until an environmental impact statement and a biological opinion have been prepared for the Crustaceans FMP; and (c) to be consistent with the NWHI Coral Reef Ecosystem Reserve, and the current process of designating certain waters of the NWHI as a national marine sanctuary.

NMFS announces the harvest guideline for the NWHI commercial lobster fishery for calendar year 2006 is established as zero lobsters, and no harvest of NWHI lobster resources is allowed. NMFS intends to continue to study and assess the status of the lobster populations in the NWHI and examine the resulting information to determine the appropriate direction for future fishery management actions.

Dated: February 14, 2006.
James P. Burgess,
Acting Director, Office of Sustainable Fisheries, National Marine Fisheries Service.

[FR Doc. E6-2411 Filed 2-17-06; 8:45 am]

BILLING CODE 3510-22-S